DEPARTMENT OF LABOR

Employment and Training Administration

[TA-W-50,746]

CSI Employment Services, Mt. Pleasant, IA; Notice of Termination of Investigation

Pursuant to section 221 of the Trade Act of 1974, an investigation was initiated on January 30, 2003, in response to a worker petition filed on behalf of workers of CSI Employment Services, Mt. Pleasant, Iowa.

The Department has amended an active certification for workers of Blue Bird Corporation, Blue Bird Body Company, Blue Bird Midwest Division, Mt. Pleasant, Iowa (TA-W-50,017), to include the workers of CSI Employment Services, engaged in employment related to the production of school buses at the Mt. Pleasant, Iowa plant.

Consequently, further investigation in this case would serve no purpose, and the investigation has been terminated.

Signed in Washington, DC, this 17th day of March, 2003.
Linda G. Poole,
Certifying Officer, Division of Trade Adjustment Assistance.

[FR Doc. 03-8910 Filed 4-10-03; 8:45 am]

BILLING CODE 4510-30-P